DEPARTMENT OF LABOR

Employment and Training Administration

[TA-W-40,832]

King Press Corporation Joplin, MO; Notice of Termination of Investigation

Pursuant to Section 221 of the Trade Act of 1974, an investigation was initiated on February 19, 2002, in response to a company petition which was filed on behalf of workers at King Press Corporation, Joplin, Missouri.

The petitioner has requested that the petition be withdrawn. Consequently, further investigation in this case would serve no purpose, and the investigation has been terminated.

Signed in Washington, DC this 28th day of February, 2002.
Linda G. Poole,
Certifying Officer, Division of Trade Adjustment Assistance.

[FR Doc. 02-5595 Filed 3-7-02; 8:45 am]

BILLING CODE 4510-30-M